DEPARTMENT OF COMMERCE

Foreign-Trade Zones Board

[B-7-2024]

Foreign-Trade Zone 61; Application for Expansion of Subzone 61Z; Oldach Associates, LLC; Cataño, Puerto Rico

An application has been submitted to the Foreign-Trade Zones (FTZ) Board by the Department of Economic Development and Commerce, grantee of FTZ 61, requesting an expansion of Subzone 61Z on behalf of Oldach Associates, LLC. The application was submitted pursuant to the provisions of the Foreign-Trade Zones Act, as amended (19 U.S.C. 81a-81u), and the regulations of the FTZ Board (15 CFR part 400). It was formally docketed on February 7, 2024.

The applicant is requesting authority to expand the subzone to include a new site located at Urbanización Industrial Luchetti, Street C, Lot 10, in Bayamón (Site 2—1.85 acres). The applicant is further requesting that the expanded subzone (existing and proposed) not be subject to FTZ 61's 1,821.07-acre activation limit. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is March 25, 2024. Rebuttal comments in response to material submitted during the foregoing period may be submitted during the subsequent 15-day period to April 8, 2024.

A copy of the application will be available for public inspection in the “Online FTZ Information Section” section of the FTZ Board's website, which is accessible via www.trade.gov/ftz.

For further information, contact Camille Evans at Camille.Evans@trade.gov.

Dated: February 7, 2024.
Elizabeth Whiteman,
Executive Secretary.

[FR Doc. 2024-02897 Filed 2-12-24; 8:45 am]

BILLING CODE 3510-DS-P